DEPARTMENT OF TRANSPORTATION

Federal Aviation Administration

14 CFR Part 95

[Docket No. 30733; Amdt. No. 488]

IFR Altitudes; Miscellaneous Amendments

AGENCY: Federal Aviation Administration (FAA), DOT.

ACTION: Final rule.

SUMMARY: This document adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, July 29, 2010.

FOR FURTHER INFORMATION CONTACT: Harry Hodges, Flight Procedure Standards Branch (AMCAFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on July 7, 2010.
John M. Allen,
Director, Flight Standards Service.

Adoption of the Amendment

Accordingly, pursuant to the authority delegated to me by the Administrator, part 95 of the Federal Aviation Regulations (14 CFR part 95) is amended as follows effective at 0901 UTC, July 29, 2010.

1. The authority citation for part 95 continues to read as follows:

Authority: 49 U.S.C. 106(g), 40103, 40106, 40113, 40114, 40120, 44502, 44514, 44719, 44721.

2. Part 95 is red to read as follows:

Revisions to IFR Altitudes & Changeover Points
[Amendment 488 effective date July 29, 2010]
From | To | MEA | MAA
§ 95.3000 LOW ALTITUDE RNAV ROUTES
§ 95.3227 RNAV ROUTE T227 IS AMENDED TO READ IN PART
FIPSU, AK FIX | CUGOB, AK FIX | **11000 | 17500
*7000—MCA CUGOB, AK FIX, S BND
*10300—MOCA
§ 95.3228 RNAV ROUTE T228 IS AMENDED TO READ IN PART
SHISHMAREF, AK NDB | ECIPI, AK FIX | *10000 | 17500
*2000—MOCA
ECIPI, AK FIX | JAPKI, AK FIX | *8000 | 17500
*3800—MOCA
JAPKI, AK FIX | PODKE, AK FIX | *13000 | 17500
*4200—MOCA
PODKE, AK FIX | CIRSU, AK FIX | 3800 | 17500
CIRSU, AK FIX | BARROW, AK VOR/DME | 2000 | 17500
BARROW, AK VOR/DME | DEADHORSE, AK VOR/DME | *2000 | 17500
*1500—MOCA
DEADHORSE, AK VOR/DME | ROCES, AK FIX | *2000 | 17500
*1300—MOCA

From | To | MEA
§ 95.6001 VICTOR ROUTES-U.S.
§ 95.6001 VOR FEDERAL AIRWAY V1 IS AMENDED TO READ IN PART
ASHES, NC FIX | LAYZE, NC FIX | 5000
GRAYM, MA FIX | BOSTON, MA VOR/DME | *4000
*2500—MOCA |  |
*3000—GNSS MEA |  |
§ 95.6003 VOR FEDERAL AIRWAY V3 IS AMENDED TO READ IN PART
#MODENA, PA VORTAC | BIGGY, NJ FIX | *2500
*2500—GNSS MEA |  |
#MODENA R-056 UNUSABLE. |  |
§ 95.6012 VOR FEDERAL AIRWAY V12 IS AMENDED TO READ IN PART
DRAKE, AZ VORTAC | OATES, AZ FIX | 10100
OATES, AZ FIX | WINSLOW, AZ VORTAC | 10800
§ 95.6025 VOR FEDERAL AIRWAY V25 IS AMENDED TO READ IN PART
RED BLUFF, CA VORTAC | HOMAN, CA FIX | *4000
*4000—MOCA |  |
MUREX, CA FIX | KLAMATH FALLS, OR VORTAC |
N BND |  | *8500
S BND |  | *11000
*8500—MOCA |  |
§ 95.6037 VOR FEDERAL AIRWAY V37 IS AMENDED TO READ IN PART
COLUMBIA, SC VORTAC | RICHE, SC FIX | *4000
*2300—MOCA |  |
§ 95.6044 VOR FEDERAL AIRWAY V44 IS AMENDED TO READ IN PART
MARTINSBURG, WV VORTAC | WOOLY, MD FIX | 3200
WOOLY, MD FIX | BALTIMORE, MD VORTAC | 2600
PALEO, MD FIX | SPEAK, MD FIX | *13500
*2000—GNSS MEA |  |
PAWLING, NY VOR/DME | ATHOS, NY FIX | 3100
ATHOS, NY FIX | GROUP, NY FIX | *8000
*3000—GNSS MEA |  |
GROUP, NY FIX | ALBANY, NY VORTAC | *6000
*2300—MOCA |  |
*2800—GNSS MEA |  |
§ 95.6054 VOR FEDERAL AIRWAY V54 IS AMENDED TO READ IN PART
HARRIS, GA VORTAC | DILLA, GA FIX | 7500
DILLA, GA FIX | RESTS, SC FIX | *8000
*6800—MOCA |  |
RESTS, SC FIX | CLEVA, SC FIX | 5000
CLEVA, SC FIX | SPARTANBURG, SC VORTAC | *4000
*3300—GNSS MEA |  |
§ 95.6056 VOR FEDERAL AIRWAY V56 IS AMENDED TO READ IN PART
MACON, GA VORTAC | MISTY, GA FIX | *6000
*2200—MOCA |  |
§ 95.6066 VOR FEDERAL AIRWAY V66 IS AMENDED TO READ IN PART
GREENWOOD, SC VORTAC | RICHE, SC FIX | *4000
*2100—MOCA |  |
*2500—GNSS MEA |  |
RICHE, SC FIX | SANDHILLS, NC VORTAC | *8000
*2300—MOCA |  |
*2500—GNSS MEA |  |
§ 95.6070 VOR FEDERAL AIRWAY V70 IS AMENDED TO READ IN PART
GRAND STRAND, SC VORTAC | #WILMINGTON, NC VORTAC | *3100
*3100—GNSS MEA |  |
#WILMINGTON R-240 UNUSABLE |  |
WILMINGTON, NC VORTAC | BEULA, NC FIX | *8000
*5000—GNSS MEA |  |
§ 95.6071 VOR FEDERAL AIRWAY V71 IS AMENDED TO READ IN PART
NATCHEZ, MS VOR/DME | MONROE, LA VORTAC | 2000
§ 95.6091 VOR FEDERAL AIRWAY V91 IS AMENDED TO READ IN PART
PLATTSBURGH, NY VORTAC | U.S. CANADIAN BORDER | *6000
*3200—MOCA |  |
*3500—GNSS MEA |  |
§ 95.6093 VOR FEDERAL AIRWAY V93 IS AMENDED TO READ IN PART
CHESTER, MA VOR/DME | KEENE, NH VORTAC | *4000
*3500—GNSS MEA |  |
§ 95.6097 VOR FEDERAL AIRWAY V97 IS AMENDED TO READ IN PART
ATLANTA, GA VORTAC | BAPPY, GA FIX | *4000
*3300—MOCA |  |
BAPPY, GA FIX | NELLO, GA FIX | 5000
NELLO, GA FIX | MELLS, GA FIX | *10000
*5800—GNSS MEA |  |
MELLS, GA FIX | *HINDE, TN FIX | 7400
*6600—MCA HINDE, TN FIX, S BND |  |
HINDE, TN FIX | TALLA, TN FIX | 6600
§ 95.6123 VOR FEDERAL AIRWAY V123 IS AMENDED TO READ IN PART
*WIGAN, NY FIX | GROUP, NY FIX | **8000
*4500—MRA |  |
**3000—GNSS MEA |  |
GROUP, NY FIX | ALBANY, NY VORTAC | *6000
*2300—MOCA |  |
*2800—GNSS MEA |  |
§ 95.6140 VOR FEDERAL AIRWAY V140 IS AMENDED TO READ IN PART
IBAAH, OK FIX | TULSA, OK VORTAC | 3300
§ 95.6153 VOR FEDERAL AIRWAY V153 IS AMENDED TO READ IN PART
LAKE HENRY, PA VORTAC | GROWS, NY FIX | 4500
GROWS, NY FIX | GEORGETOWN, NY VORTAC | *4500
*3800—MOCA |  |
*4000—GNSS MEA |  |
§ 95.6155 VOR FEDERAL AIRWAY V155 IS AMENDED TO READ IN PART
SINCA, GA FIX | BEYLO, GA FIX | *5000
*2400—MOCA |  |
*2400—GNSS MEA |  |
§ 95.6157 VOR FEDERAL AIRWAY V157 IS AMENDED TO READ IN PART
HAARP, CT FIX | KINGSTON, NY VOR/DME | *7000
*2800—MOCA |  |
*4000—GNSS MEA |  |
*WIGAN, NY FIX | GROUP, NY FIX | **8000
*4500—MRA |  |
**3000—GNSS MEA |  |
GROUP, NY FIX | ALBANY, NY VORTAC | *6000
*2300—MOCA |  |
*2800—GNSS MEA |  |
§ 95.6185 VOR FEDERAL AIRWAY V185 IS AMENDED TO READ IN PART
SUGARLOAF MOUNTAIN, NC VORTAC | MUMMI, NC FIX | 7000
§ 95.6190 VOR FEDERAL AIRWAY V190 IS AMENDED TO READ IN PART
LAKEY, AZ FIX | GRINE, AZ FIX |
NE BND |  | *9000
SW BND |  | *6000
*5300—MOCA |  |
GRINE, AZ FIX | PEAKS, AZ FIX | *10000
*6700—MOCA |  |
TEDDI, AZ FIX | ST JOHNS, AZ VORTAC | *13000
*11000—MOCA |  |
*11000—GNSS MEA |  |
§ 95.6213 VOR FEDERAL AIRWAY V213 IS AMENDED TO READ IN PART
GRAND STRAND, SC VORTAC | #WILMINGTON, NC VORTAC | *3100
*3100—GNSS MEA |  |
#WILMINGTON R-240 UNUSABLE |  |
WILMINGTON, NC VORTAC | WALLO, NC FIX | *8000
*5000—GNSS MEA |  |
*WEETS, NY FIX | ALBANY, NY VORTAC | **10000
*6000—MRA |  |
**6100—MOCA |  |
**8000—GNSS MEA |  |
§ 95.6214 VOR FEDERAL AIRWAY V214 IS AMENDED TO READ IN PART
MARTINSBURG, WV VORTAC | WOOLY, MD FIX | 3200
WOOLY, MD FIX | BALTIMORE, MD VORTAC | 2600
§ 95.6225 VOR FEDERAL AIRWAY V225 IS AMENDED TO READ IN PART
MARCI, FL FIX | LEE COUNTY, FL VORTAC | 2100
§ 95.6232 VOR FEDERAL AIRWAY V232 IS AMENDED TO READ IN PART
CHARDON, OH VOR/DME | FRANKLIN, PA VOR | 3300, MAA—15000
§ 95.6260 VOR FEDERAL AIRWAY V260 IS AMENDED TO READ IN PART
CHARLESTON, WV VORTAC | MONTS, WV FIX | 3400
MONTS, WV FIX | RAINELLE, WV VOR | 5100
§ 95.6264 VOR FEDERAL AIRWAY V264 IS AMENDED TO READ IN PART
DRAKE, AZ VORTAC | OATES, AZ FIX | 10100
OATES, AZ FIX | WINSLOW, AZ VORTAC | 10800
§ 95.6286 VOR FEDERAL AIRWAY V286 IS AMENDED TO READ IN PART
DERIN, WV FIX | TEAKK, VA FIX | 6900
§ 95.6290 VOR FEDERAL AIRWAY V290 IS AMENDED TO READ IN PART
*MONTEBELLO, VA VOR/DME | ROMAN, VA FIX | 6300
*6000—MCA MONTEBELLO, VA VOR/DME, SE BND |  |
ROMAN, VA FIX | ARVON, VA FIX | 4000
ARVON, VA FIX | #FLAT ROCK, VA VORTAC | *5000
*2200—GNSS MEA |  |
#FLAT ROCK R-297 UNUSABLE. |  |
§ 95.6296 VOR FEDERAL AIRWAY V296 IS AMENDED TO READ IN PART
RAPVY, NC FIX | WILMINGTON, NC VORTAC | *8000
*5000—GNSS MEA |  |
§ 95.6300 VOR FEDERAL AIRWAY V300 IS AMENDED TO READ IN PART
U.S. CANADIAN BORDER | CAMPO, ME FIX | *9000
*5900—MOCA |  |
*5900—GNSS MEA |  |
CAMPO, ME FIX | WRAPT, ME FIX | *9000
*6000—MOCA |  |
*6000—GNSS MEA |  |
WRAPT, ME FIX | MILLINOCKET, ME VOR/DME | *7000
*5900—MOCA |  |
*5900—GNSS MEA |  |
§ 95.6335 VOR FEDERAL AIRWAY V335 IS AMENDED TO READ IN PART
GLASS, MO FIX | NIKEL, IL FIX | *4500
*2200—MOCA |  |
*3500—GNSS MEA |  |
§ 95.6364 VOR FEDERAL AIRWAY V364 IS AMENDED TO READ IN PART
WEAKS, NC FIX | UNICO, TN FIX | *9000
*7700—MOCA |  |
*7700—GNSS MEA |  |
§ 95.6375 VOR FEDERAL AIRWAY V375 IS AMENDED TO READ IN PART
PROSE, VA FIX | ROMAN, VA FIX | 6500
ROMAN, VA FIX | GORDONSVILLE, VA VORTAC | 4000
§ 95.6419 VOR FEDERAL AIRWAY V419 IS AMENDED TO READ IN PART
BOSTON, MA VOR/DME | BRADLEY, CT VORTAC | *4000
*2500—MOCA |  |
*3000—GNSS MEA |  |
BIGGY, NJ FIX | #MODENA, PA VORTAC | *2500
*2500—GNSS MEA |  |
#MODENA R-056 UNUSABLE. |  |
§ 95.6424 VOR FEDERAL AIRWAY V424 IS AMENDED TO READ IN PART
NAPOLEON, MO VORTAC | MACON, MO VOR/DME | 2900
§ 95.6451 VOR FEDERAL AIRWAY V451 IS AMENDED TO READ IN PART
LA GUARDIA, NY VOR/DME | *NESSI, CT FIX | **4000
*4000—MRA |  |
**1700—MOCA |  |
**2000—GNSS MEA |  |
§ 95.6452 VOR FEDERAL AIRWAY V452 IS AMENDED TO READ IN PART
KLAMATH FALLS, OR VORTAC | TULIP, CA FIX | 9000
TULIP, CA FIX | BACHS, CA FIX |
S BND |  | *14000
N BND |  | *9000
*11000—GNSS MEA |  |
BACHS, CA FIX | HALLE, NV FIX | *14000
*10200—MOCA |  |
*11000—GNSS MEA |  |
HALLE, NV FIX | MUSTANG, NV VORTAC | *11000
*9600—MOCA |  |
§ 95.6483 VOR FEDERAL AIRWAY V483 IS AMENDED TO READ IN PART
KINGSTON, NY VOR/DME | *WEETS, NY FIX | **4000
*6000—MRA |  |
**3000—GNSS MEA |  |
§ 95.6511 VOR FEDERAL AIRWAY V511 IS AMENDED TO READ IN PART
HALLR, FL FIX | THNDR, FL FIX | *7000
*1700—MOCA |  |
*5000—GNSS MEA |  |

From | To | MEA | MAA
§ 95.7001 JET ROUTES
§ 95.7003 JET ROUTE J3 IS AMENDED TO DELETE IN PART
SPOKANE, WA VORTAC | U.S. CANADIAN BORDER | 18000 | 45000
§ 95.7181 JET ROUTE J181 IS AMENDED TO READ IN PART
HALLSVILLE, MO VORTAC | BAYLI, IL FIX | 18000 | 23000
BAYLI, IL FIX | BRADFORD, IL VORTAC | 18000 | 45000
§ 95.7190 JET ROUTE J190 IS AMENDED TO READ IN PART
SLATE RUN, PA VORTAC | BINGHAMTON, NY VORTAC | 18000 | 38000

Airway Segment: From | Airway Segment: To | Changeover Points: Distance | Changeover Points: From
§ 95.8003 VOR FEDERAL AIRWAY CHANGEOVER POINTS
V12 IS AMENDED TO ADD CHANGEOVER POINT
DRAKE, AZ VORTAC | WINSLOW, AZ VORTAC | 39 | DRAKE
V153 IS AMENDED TO MODIFY CHANGEOVER POINT
LAKE HENRY, PA VORTAC | GEORGETOWN, NY VORTAC | 51 | LAKE HENRY
V264 IS AMENDED TO ADD CHANGEOVER POINT
DRAKE, AZ VORTAC | WINSLOW, AZ VORTAC | 39 | DRAKE
V300 IS AMENDED TO ADD CHANGEOVER POINT
SHERBROOKE, VORTAC | MILLINOCKET, ME VOR/DME | 61 |
SHERBROOKE |  |  |
V419 IS AMENDED TO ADD CHANGEOVER POINT
BOSTON, MA VOR/DME | BRADLEY, CT VORTAC | 49 | BOSTON
V54 IS AMENDED TO ADD CHANGEOVER POINT
HARRIS, GA VORTAC | SPARTANBURG, SC VORTAC | 52 | HARRIS
V66 IS AMENDED TO ADD CHANGEOVER POINT
GREENWOOD, SC VORTAC | SANDHILLS, NC VORTAC | 64 |
GREENWOOD |  |  |

[FR Doc. 2010-17133 Filed 7-13-10; 8:45 am]

BILLING CODE 4910-13-P